DEPARTMENT OF TRANSPORTATION

Maritime Administration

[Docket No. DOT-MARAD 2015 0021]

Request for Comments of a Previously Approved Information Collection

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on November 26, 2014 (Federal Register 70611, Vol. 79, No. 228).

DATES: Comments must be submitted on or before March 23, 2015.

FOR FURTHER INFORMATION CONTACT: Michael Yarrington, (202) 366-1915, Office of Marine Insurance, Maritime Administration, U.S. Department of Transportation, 1200 New Jersey Avenue SE., Washington, DC 20590.

SUPPLEMENTARY INFORMATION: Title: Seamen's Claims, Administrative Action and Litigation.

OMB Control Number: 2133-0522.

Type of Request: Renewal of a Previously Approved Information Collection.

Abstract: The collection consists of information obtained from claimants for death, injury, or illness suffered while serving as officers or members of a crew on board a vessel owned or operated by the United States through the Maritime Administration. The Maritime Administration reviews the information and makes a determination regarding the issues of agency and vessel liability and the reasonableness of the recovery demand.

Affected Public: Officers or members of a crew who suffered death, injury, or illness while employed on vessels owned or operated by the United States through the Maritime Administration. Also included are surviving dependents, beneficiaries, and legal representatives of officers or crew members.

Estimated Number of Respondents: 15.

Estimated Number of Responses: 15.

Annual Estimated Total Annual Burden Hours: 188.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1.93.

Dated: February 10, 2015.
Christine Gurland,
Acting Secretary, Maritime Administration.

[FR Doc. 2015-03369 Filed 2-18-15; 8:45 am]

BILLING CODE 4910-81-P